GENERAL SERVICES ADMINISTRATION

[Notice-P-2025-03; Docket No. 2025-0002; Sequence No. 3]

Notice of Availability for a Final Environmental Impact Statement (EIS) and Floodplain and Wetlands Assessment and Statement of Findings for the Grand Portage Land Port of Entry (LPOE) Modernization and Expansion Project in Grand Portage, Minnesota

AGENCY: Public Buildings Service (PBS), United States (U.S.) General Services Administration (GSA).

ACTION: Notice of Availability (NOA); Public Notice of Floodplain and Wetlands Assessment and Statement of Findings.

SUMMARY: This notice announces the availability of the Final EIS, which examines potential environmental impacts from the modernization and expansion of the Grand Portage LPOE, located within the Grand Portage Reservation of the Grand Portage Band of Lake Superior Chippewa (herein referred to as the Grand Portage Band). The existing Grand Portage LPOE is owned and managed by GSA and is operated by the U.S. Department of Homeland Security's Customs and Border Protection (CBP).

The Final EIS describes the purpose and need for the project; alternatives considered; the existing environment that could be affected; the potential impacts resulting from each of the alternatives; and proposed best management practices and mitigation measures.

The Final EIS also includes a Floodplain and Wetlands Assessment and Statement of Findings as a result of potential construction in a floodplain and wetlands at the Grand Portage LPOE. Based on impacts analyses and public comments, GSA has identified the Proposed Action as described in the Final EIS as its preferred alternative.

DATES: The Final EIS Wait Period begins with publication of this NOA in the Federal Register and will last for 30 days until June 8, 2025. Any final written comments must be received or postmarked by the last day of the Wait Period (see the ADDRESSES section of this NOA on how to submit comments). After the Wait Period, GSA will issue the Record of Decision (ROD).

ADDRESSES: A copy of the Final EIS can be found on the GSA website at: https://www.gsa.gov/about-us/gsa-regions/region-5-great-lakes/buildings-and-facilities/minnesota/grand-portage-land-port-of-entry. Hard copies are also available at the following locations: Grand Portage Tribal Council Office, 83 Stevens Rd., Grand Portage, MN 55605; Grand Portage Community Center, 73 Upper Rd., Grand Portage, MN 55605; Grand Portage Trust Lands, 27 Store Rd., Grand Portage, MN 55605.

Public Comments

Members of the public may submit comments by any of the following methods. All comments will be considered equally and will be part of the public record.

• Electronic comments should be submitted to the email address listed below.

matthew.heiman@gsa.gov.

Please include `Grand Portage LPOE Final EIS' in the subject line.

• Written comments should be mailed to: ATTN: Matthew Heiman, Senior Project Manager, Grand Portage LPOE Final EIS, U.S. General Services Administration, c/o Potomac-Hudson Engineering, Inc., 77 Upper Rock Circle, Suite 302, Rockville, MD 20850.

FOR FURTHER INFORMATION CONTACT: Questions and comments on the Final EIS should be directed to: Matthew Heiman, Senior Project Manager, GSA at the following email address: matthew.heiman@gsa.gov.

SUPPLEMENTARY INFORMATION:

Wait Period

The views and comments of the public are necessary in helping GSA in its decision-making process. The public review process will be accomplished through direct mail correspondence to appropriate federal, state, and local agencies, and to private organizations and citizens who have previously expressed, or are known to have, an interest in the project. The Final EIS has considered previous input provided during the scoping and Draft EIS comment periods.

Background

The existing 5.7-acre LPOE serves vehicles and pedestrians crossing the U.S.-Canada border between the Grand Portage Reservation in the U.S. and Neebing, Ontario in Canada. The Feasibility Study performed in 2019 determined that the existing structures do not contain the necessary square footage as specified by CBP's space and facility requirements (also referred to as Program of Requirements [POR]). In addition, the facility lacks outbound inspection capabilities. Following preparation of the Feasibility Study, a Program Development Study (PDS) was initiated as the next step in the design process to further refine potential alternatives under consideration. From the PDS process, viable alternatives were further refined into the Proposed Action analyzed within the Final EIS, in collaboration with the Grand Portage Band, who is serving as a Cooperating Agency for this EIS.

GSA has prepared this Final EIS for the purpose of analyzing the potential environmental, cultural, and economic impacts resulting from the Proposed Action to modernize and expand the existing Grand Portage LPOE.

Alternatives Under Consideration

The Proposed Action would consist of modernization and expansion of existing Grand Portage LPOE facilities as described in the PDS. Under the Proposed Action, GSA would replace the Grand Portage LPOE with a modernized facility on an expanded footprint, expanding the existing 5.7-acre operational footprint to a total operational footprint of approximately 10.4 acres. GSA would also upgrade the electrical distribution system leading to the LPOE by installing a 7.3-mile buried three-phase power line within Arrowhead Cooperative's existing utility right-of-way along the western side of Highway 61. GSA also considered the No Action Alternative, which assumes that GSA would not expand or modernize the Grand Portage LPOE or install the three-phase power line.

The purpose of the Proposed Action is for GSA to support CBP's mission by modernizing and expanding the Grand Portage LPOE. The existing LPOE does not meet CBP's current needs and does not allow for expeditious and safe inspection of the traveling public. The deficiencies fall into two broad categories: deficiencies in the overall site layout and substandard building conditions. Therefore, to bring the Grand Portage LPOE operations in line with design standards and operational requirements, implementation of the Proposed Action is needed to (1) address space constraints and inefficient traffic flows; (2) shorten and expedite vehicle processing time, to include improving daily commutes across the U.S.-Canada border; (3) decrease congestion and long wait times during the peak travel season; (4) allow CBP to process a higher volume of vehicles traveling to and from Canada, to include further accommodation of potential future spikes in travelers crossing the U.S.-Canada border; and (5) provide a wider single lane for large semi-trucks hauling wind turbine components from Canada.

The Final EIS analyzes the potential impacts of the proposed alternatives on environmental resources including geology, water, biological resources, air quality, noise, traffic and transportation, land use and visual resources, infrastructure and utilities, socioeconomics, cultural resources, and human health and safety. The Final EIS concludes that impacts to all resource areas would be less-than-significant (i.e., negligible, minor, or moderate. Impact reduction measures are presented in the Final EIS to reduce potential adverse effects.

GSA is currently conducting formal consultation with the Grand Portage Band Tribal Historic Preservation Officer (THPO) as required under Section 106 of the National Historic Preservation Act to determine impacts to historic properties. Mitigation measures may be determined in consultation between GSA, the THPO, and applicable consulting parties.

Under the Endangered Species Act (ESA), GSA coordinated with the U.S. Fish and Wildlife Service (USFWS) per Section 7 requirements to determine effects to federally protected species. GSA determined that there would be no adverse effects to federally threatened or endangered species with implementation of impact avoidance measures; USFWS concurred with these findings. GSA's findings and correspondence with USFWS are incorporated in the Final EIS.

The project area occurs within a region unmapped by the Federal Emergency Management Agency for floodplains and floodways. As information is currently unavailable that definitively indicates the presence or location of floodplains relative to the project area, GSA has assumed that the project area is located within a 1-percent-annual-chance or 0.2-percent-annual-chance floodplain for purposes of complying with Executive Order 11988 and the GSA Floodplain Management Desk Guide, and until such time that a floodplain hazard study can be conducted. In addition, based on a wetland delineation conducted for the project, approximately 3.3 acres of wetlands occur within the project area. GSA prepared a Floodplain and Wetlands Assessment and Statement of Findings addressing potential impacts on floodplains and wetlands, which is included in the Final EIS. Final design of the Grand Portage LPOE would incorporate standard measures, including those specified in GSA Interim Core Building Standards as well as by the authority having jurisdiction, to reduce or manage stormwater flows as well as any potential impacts to the floodplain if present. GSA would coordinate as necessary with the Grand Portage Band to obtain appropriate permits and approvals related to wetlands disturbance under the Clean Water Act. Further, GSA would consider options to minimize, avoid, or mitigate potential impacts, as required by the U.S. Army Corps of Engineers and/or the Grand Portage Band.

Russell Riberto,
Regional Commissioner, Great Lakes Region 5, U.S. General Services Administration.

[FR Doc. 2025-07964 Filed 5-8-25; 8:45 am]

BILLING CODE 6820-CF-P